FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 4, 2015.

A. Federal Reserve Bank of Richmond (Adam M. Drimer, Assistant Vice President) 701 East Byrd Street, Richmond, Virginia 23261-4528:

1. P. Byron DeFoor, Ooltewah, Tennessee; to acquire voting shares of AB&T Financial Corporation, and thereby indirectly acquire voting shares of Alliance Bank & Trust Company, both in Gastonia, North Carolina.

B. Federal Reserve Bank of Kansas City (Dennis Denney, Assistant Vice President) 1 Memorial Drive, Kansas City, Missouri 64198-0001:

1. Rebecca A. Schepker, as trustee of the Rebecca A. Schepker Revocable Trust; Ronald J. Schepker, as trustee of the Ronald J. Schepker Revocable Trust, both of Columbia, Missouri; Kathleen M. Wix, Salisbury, Missouri; Jacob W. Widmer, Moberly, Missouri; Jessica L. Schepker, Kansas City, Missouri; Mary E. Schepker, Columbia, Missouri; and Kristen N. Schepker, Columbia, Missouri; as members of the Schepker Family Group acting in concert, to acquire voting shares of Widmer Bancshares, Inc., and thereby indirectly acquire voting shares of The Merchants and Farmers Bank of Salisbury, both in Salisbury, Missouri.

Board of Governors of the Federal Reserve System, January 15, 2015.
Michael J. Lewandowski,
Associate Secretary of the Board.

[FR Doc. 2015-00863 Filed 1-20-15; 8:45 am]

BILLING CODE 6210-01-P